DEPARTMENT OF HOUSING AND URBAN DEVELOPMENT

[Docket No. FR-4572-D-25]

Delegation of Appointment Authority: Manufactured Housing Consensus Committee

AGENCY: Office of the Secretary, HUD.

ACTION: Notice of Delegation of Authority.

SUMMARY: In this notice, the Secretary delegates to the Assistant Secretary of Housing-Federal Housing Commissioner the authority to make appointments relating to the consensus committee for manufactured housing.

EFFECTIVE DATE: August 8, 2002.

FOR FURTHER INFORMATION CONTACT: William W. Matchneer III, Administrator, Manufactured Housing Program, Office of Consumer and Regulatory Affairs, Department of Housing and Urban Development, 451 7th Street SW., Washington, DC 20410, telephone (202) 708-6409 (this is not a toll-free number). Hearing- or speech-impaired individuals may access this number via TTY by calling the toll-free Federal Information Relay Service at (800) 877-8339.

SUPPLEMENTARY INFORMATION: The Department regulates the design, construction, and safety of manufactured housing pursuant to its authority under the National Manufactured Housing Construction and Safety Standards Act of 1974, 42 U.S.C. 5401, et seq. (“the Act”). The Act was amended by the Manufactured Housing Improvement Act of 2000 (Title VI, Pub. L. 106-569, 114 Stat. 2944, approved December 27, 2000), in part to provide for the establishment of a consensus committee for manufactured housing. The consensus committee is charged with providing recommendations to the Secretary to adopt, revise, and interpret manufactured housing construction and safety standards and procedural and enforcement regulations, and with submitting to the Secretary proposed model installation standards. The Assistant Secretary for Housing-Federal Housing Commissioner oversees HUD's manufactured housing program.

The responsibilities and authorities of the Secretary to make appointments and designations with respect to the consensus committee is being delegated to the Assistant Secretary for Housing-Federal Housing Commissioner.

Accordingly, the Secretary delegates authority as follows:

1. The authority under the National Manufactured Housing Construction and Safety Standards Act of 1974 (42 U.S.C. 5401, et seq., as amended by the Manufactured Housing Improvement Act of 2000 (Title VI, Pub. L. 106-569, 114 Stat. 2944, approved December 27, 2000)) and the implementing regulations to make any necessary or discretionary appointments relating to the consensus committee for manufactured housing is hereby delegated to the Assistant Secretary for Housing-Federal Housing Commissioner.

2. The authority under the Federal Advisory Committee Act, 5 U.S.C. App., and the General Services Administration implementing regulations at 41 CFR part 102-3 to make any necessary or discretionary appointments relating to the consensus committee for manufactured housing is hereby delegated to the Assistant Secretary for Housing-Federal Housing Commissioner.

Authority: National Manufactured Housing Construction and Safety Standards Act of 1974, 42 U.S.C. 5401, et seq.; Federal Advisory Committee Act, 5 U.S.C. App.; Sec. 7(d), Department of HUD Act, 42 U.S.C. 3535(d).

Dated: August 12, 2002.
Mel Martinez,
Secretary.

[FR Doc. 02-21071 Filed 8-19-02; 8:45 am]

BILLING CODE 4210-27-P